DEPARTMENT OF COMMERCE

International Trade Administration

[A-570-956 and C-570-957]

Seamless Carbon Alloy Steel Standard Line and Pressure Pipes From the People's Republic of China: Continuation of Antidumping Duty Order and Countervailing Duty Order

AGENCY: Enforcement and Compliance, International Trade Administration, Department of Commerce.

SUMMARY: As a result of the determinations by the Department of Commerce (the Department) and the International Trade Commission (ITC) that revocation of the antidumping duty (AD) order and countervailing duty (CVD) order on seamless carbon alloy steel standard line and pressure pipes (seamless pipe) from the People's Republic of China (PRC) would likely lead to a continuation or recurrence of dumping and countervailable subsidies and material injury to an industry in the United States, the Department is publishing a notice of continuation of the antidumping duty order and the countervailing duty order.

DATES: Effective Date: March 16, 2016.

FOR FURTHER INFORMATION CONTACT: Aleksandras Nakutis, Office IV, or, Peter Zukowski, Office I, AD/CVD Operations, Enforcement and Compliance, International Trade Administration, U.S. Department of Commerce, 1401 Constitution Avenue NW., Washington, DC 20230; telephone: (202) 482-3147 or (202) 482-0189.

SUPPLEMENTARY INFORMATION:

Background

On November 10, 2010, the Department published the AD and CVD orders on imports of seamless pipes from the PRC.¹ There have been no administrative reviews since issuance of the Orders. There have been no related findings or rulings (e.g., changed circumstances review, scope ruling, duty absorption review) since issuance of the Orders.

¹ See Certain Seamless Carbon and Alloy Steel Standard, Line, and Pressure Pipe From the People's Republic of China: Amended Final Determination of Sales at Less Than Fair Value and Antidumping Duty Order, 75 FR 69052 (November 10, 2010); see also Certain Seamless Carbon and Alloy Steel Standard, Line, and Pressure Pipe From the People's Republic of China: Amended Final Affirmative Countervailing Duty Determination and Countervailing Duty Order, 75 FR 69050 (November 10, 2010) (Orders).

On October 1, 2015, the Department published a notice of initiation of the first sunset review of the AD and CVD Orders on seamless pipe from the PRC, pursuant to section 751(c) of the Tariff Act of 1930, as amended (the Act).² As a result of its reviews, the Department determined that revocation of the AD order would likely lead to a continuation or recurrence of dumping and that revocation of the CVD order would likely lead to continuation or recurrence of countervailable subsidies. The Department, therefore, notified the ITC of the magnitude of the margin and the net countervailable subsidy rates likely to prevail should the antidumping order and the countervailing duty order be revoked.³ On March 7, 2016, the ITC published notice of its determination, pursuant to section 751(c) of the Act, that revocation of the AD and CVD orders on seamless pipe from the PRC would likely lead to a continuation or recurrence of material injury to an industry in the United States within a reasonably foreseeable time.⁴

² See Initiation of Five-Year “Sunset” Reviews, 80 FR 59133 (October 1, 2015).

³ See Seamless Carbon and Alloy Steel Standard, Line, and Pressure Pipe From the People's Republic of China: Final Results of the Expedited Sunset Review of the Antidumping Duty Order, 81 FR 7305 (February 11, 2016) and accompanying Issues and Decision Memorandum; see also Seamless Carbon and Alloy Steel Standard, Line, and Pressure Pipe From the People's Republic of China: Final Results of Expedited First Sunset Review of the Countervailing Duty Order, 81 FR 5985 (February 4, 2016) and the accompanying Issues and Decision Memorandum.

⁴ See Certain Seamless Carbon and Alloy Steel Standard, Line, and Pressure Pipe from China: Determination, 81 FR 11837 (March 7, 2016); see also Certain Seamless Carbon and Alloy Steel Standard, Line, and Pressure Pipe from China: Investigation Numbers 701-TA-469 and 731-TA-1168 (Review), USITC Publication 4595, (February 2016).

Scope of the Orders

The scope of these orders consists of certain seamless carbon and alloy steel (other than stainless steel) pipes and redraw hollows, less than or equal to 16 inches (406.4 mm) in outside diameter, regardless of wall-thickness, manufacturing process (e.g., hot-finished or cold-drawn), end finish (e.g., plain end, beveled end, upset end, threaded, or threaded and coupled), or surface finish (e.g., bare, lacquered or coated). Redraw hollows are any unfinished carbon or alloy steel (other than stainless steel) pipe or “hollow profiles” suitable for cold finishing operations, such as cold drawing, to meet the American Society for Testing and Materials (“ASTM”) or American Petroleum Institute (“API”) specifications referenced below, or comparable specifications. Specifically included within the scope are seamless carbon and alloy steel (other than stainless steel) standard, line, and pressure pipes produced to the ASTM A-53, ASTM A-106, ASTM A-333, ASTM A-334, ASTM A-589, ASTM A-795, ASTM A-1024, and the API 5L specifications, or comparable specifications, and meeting the physical parameters described above, regardless of application, with the exception of the exclusion discussed below.

Specifically excluded from the scope of the orders are: (1) All pipes meeting aerospace, hydraulic, and bearing tubing specifications; (2) all pipes meeting the chemical requirements of ASTM A-335, whether finished or unfinished; and (3) unattached couplings. Also excluded from the scope of the order are all mechanical, boiler, condenser and heat exchange tubing, except when such products conform to the dimensional requirements, i.e., outside diameter and wall thickness of ASTM A-53, ASTM A-106 or API 5L specifications.

The merchandise covered by the orders is currently classified in the Harmonized Tariff Schedule of the United States (“HTSUS”) under item numbers: 7304.19.1020, 7304.19.1030, 7304.19.1045, 7304.19.1060, 7304.19.5020, 7304.19.5050, 7304.31.6050, 7304.39.0016, 7304.39.0020, 7304.39.0024, 7304.39.0028, 7304.39.0032, 7304.39.0036, 7304.39.0040, 7304.39.0044, 7304.39.0048, 7304.39.0052, 7304.39.0056, 7304.39.0062, 7304.39.0068, 7304.39.0072, 7304.51.5005, 7304.51.5060, 7304.59.6000, 7304.59.8010, 7304.59.8015, 7304.59.8020, 7304.59.8025, 7304.59.8030, 7304.59.8035, 7304.59.8040, 7304.59.8045, 7304.59.8050, 7304.59.8055, 7304.59.8060, 7304.59.8065, and 7304.59.8070. Although the HTSUS subheadings are provided for convenience and customs purposes, our written description of the merchandise subject to this scope is dispositive.

Continuation of the Orders

As a result of the determinations by the Department and the ITC that revocation of the AD and CVD orders would likely lead to a continuation or recurrence of dumping and countervailable subsidies and material injury to an industry in the United States, pursuant to section 751(d)(2) of the Act and 19 CFR 351.218(a), the Department hereby orders the continuation of the AD order and CVD order on seamless pipe from the PRC. U.S. Customs and Border Protection will continue to collect antidumping and countervailing duty cash deposits at the rates in effect at the time of entry for all imports of subject merchandise.

The effective date of the continuation of the orders will be the date of publication in the Federal Register of this notice of continuation. Pursuant to section 751(c)(2) of the Act, the Department intends to initiate the next five-year review of the orders not later than 30 days prior to the fifth anniversary of the effective date of continuation.

These five-year (“sunset”) reviews and this notice are in accordance with section 751(c) of the Act and published pursuant to section 777(i)(1) of the Act and 19 CFR 351.218(f)(4).

Dated: March 9, 2016.
Paul Piquado,
Assistant Secretary for Enforcement and Compliance.

[FR Doc. 2016-05941 Filed 3-15-16; 8:45 am]

BILLING CODE 3510-DS-P